DEPARTMENT OF COMMERCE

National Oceanic and Atmospheric Administration

[RTID 0648-XA162]

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a five-day public virtual meeting to address the items contained in the tentative agenda included in the SUPPLEMENTARY INFORMATION.

DATES: The public virtual meeting will be held on May 18, 2020 through May 22, 2020. See SUPPLEMENTARY INFORMATION for specific dates and times.

ADDRESSES: You may join the SSC public virtual meeting (via GoToMeeting) from a computer, tablet or smartphone by entering the following address: https://global.gotomeeting.com/join/273252797.

You can also dial in using your telephone.

(For supported devices, tap a one-touch number below to join instantly.)

United States: +1 (872) 240-3212

—One-touch: tel: +18722403212, 273252797#

Access Code: 273-252-797

Join from a video-conferencing room or system.

Dial in or type: 67.217.95.2 or inroomlink.goto.com.

Meeting ID: 273 252 797.

Or dial directly: 273252797@67.217.95.2 or 67.217.95.2##273252797.

You may download the gotomeeting app to be ready when the meeting starts: https://global.gotomeeting.com/install/273252797.

FOR FURTHER INFORMATION CONTACT: Miguel Rolón, Executive Director, Caribbean Fishery Management Council, 270 Muñoz Rivera Avenue, Suite 401, San Juan, Puerto Rico 00918-1903, telephone: (787) 766-5926.

SUPPLEMENTARY INFORMATION: The meetings will be held on May 18, 2020, from 10 a.m. to 4 p.m.; May 19, 2020, from 10 a.m. to 5 p.m.; May 20, 2020, from 10 a.m. to 12 noon; May 21, 2020, from 10 a.m. to 5 p.m.; and May 22, 2020, from 10 a.m. to 12 noon. All meetings will be at Eastern Standard Time.

The following items included in the tentative agenda will be discussed:

May 18, 2020

10 a.m.—Call to Order

10:15 a.m.—Adoption of Agenda

10:30 a.m.—;National SSC August 2020 Update

10:30 a.m.—11:30 a.m.

—SEDAR 57 Spiny Lobster—Adyan Rios, SEFSC

—SEFSC Presentation on OFL and ABC for Spiny Lobster

—SSC Recommendations on ABC for Spiny Lobster for all Three Island Platforms

Goal of Meeting: Finalize the Generic Ecosystem Conceptual Model

2 p.m.—4 p.m.

—Summary 2019 Meeting—Chair Presentation to CFMC 168 and Next Steps

—Mental Modeler Review:

(1) Where Exactly we Left Off for Each Sub Model and the Full Model as a Whole

(2) How this is Going to Work in the Virtual Environment

—Begin 15-Minute Presentations on each Component (8) Followed by Discussion to Finalize Connections, Directions and Strengths

—SSC ECM components

1. Marine Ecosystem

2. Habitat

3. Water Quality

4. Fishing

5. Land-Based Uses

6. Socio-economic and Cultural Drivers

7. Competing Uses of Resources

8. Abiotic Factors

May 19, 2020

10 a.m.—12:00 p.m.

Continue 15-Minute Presentations on each Component (8) Followed by Discussion to Finalize Connections, Directions and Strengths

2 p.m.—3:30 p.m.

—Discussion continues

4 p.m.—5 p.m.

—Summary Determination of Direction and Strengths of the Boxes Representing Ecosystem Components (e.g., Ecological, Economic, Social)

May 20, 2020

10 a.m.—12 noon

—Continue Discussion

May 21, 2020

10 a.m.-12 noon

Goal: Development of Three Ecosystem Conceptual Models—one each for Puerto Rico, St. Thomas/St. John, and St. Croix, Discuss development of Island Specific Ecosystem Model

2 p.m.—3 p.m.

—SSC Development of Puerto Rico Ecosystem Conceptual Model Determination of Critical Links that can serve as Indicators

3 p.m.—4 p.m.

—SSC Development of St. Thomas/St. John Ecosystem Conceptual Model Determination of Critical Links that can serve as Indicators

4 p.m.—5 p.m.

SSC Development of St. Croix Ecosystem Conceptual Model Determination of Critical Links that can serve as Indicators

—Recommendations to the CFMC

May 22, 2020

10 a.m.-12 noon

—Continue and Finalize Discussion of each Island Ecosystem Conceptual Model

—Other Business

—PR DNER E-Reporting Update

—Caribbean Ecosystem Status Report Update—SEFSC

—Adjourn

The order of business may be adjusted as necessary to accommodate the completion of agenda items. The meeting will begin on May 18, 2020, at 10 a.m. EST, and will end on May 22, 2020, at 12 noon EST. Other than the start time, interested parties should be aware that discussions may start earlier or later than indicated, at the discretion of the Chair. In addition, the meeting may be completed prior to the date established in this notice.

Special Accommodations

Simultaneous interpretation will be provided. To receive interpretation in Spanish you can dial into the meeting as follows:

US/Canada: call +1-888-947-3988, when system answers, enter 1*999996#. Para interpretación en inglés marcar:

US/Canada: call +1-888-947-3988, cuando el sistema conteste, entrar el siguiente número 2*999996#.

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: April 30, 2020.
Tracey L. Thompson,
Acting Deputy Director, Office of Sustainable Fisheries, National Marine Fisheries Service.

[FR Doc. 2020-09558 Filed 5-4-20; 8:45 am]

BILLING CODE 3510-22-P